DEPARTMENT OF ENERGY

Federal Energy Regulatory Commission

Combined Notice of Filings #2

Take notice that the Commission received the following electric rate filings:

Docket Numbers: ER10-2042-024; ER10-1858-004; ER10-1862-018; ER10-1870-004; ER10-1889-004; ER10-1893-018; ER10-1895-004; ER10-1934-018; ER10-1938-019; ER10-1942-016; ER10-1944-004; ER10-2029-008; ER10-2036-007; ER10-2040-006; ER10-2041-006; ER10-2043-006; ER10-2044-006; ER10-2051-006; ER10-2985-022; ER10-3049-023; ER10-3051-023; ER10-3260-006; ER11-4369-003; ER13-1401-004; ER14-2931-004; ER15-748-002; ER16-2218-003;ER17-696-004.

Applicants: Calpine Energy Services, L.P., Bethpage Energy Center 3, LLC, Calpine Bethlehem, LLC, Calpine Construction Finance Company, LP, Calpine Energy Solutions, LLC, Calpine Fore River Energy Center, LLC, Calpine Mid-Atlantic Generation, LLC, Calpine Mid-Atlantic Marketing, LLC, Calpine Mid Merit, LLC, Calpine New Jersey Generation, LLC, Calpine PowerAmerica—CA, LLC, Calpine Vineland Solar, LLC, CES Marketing IX, LLC, CES Marketing X, LLC, Champion Energy Marketing LLC, Champion Energy Services, LLC, Champion Energy, LLC, CPN Bethpage 3rd Turbine, Inc., Garrison Energy Center LLC, Granite Ridge Energy, LLC, KIAC Partners, Nissequogue Cogen Partners, North American Power and Gas, LLC, Power Contract Financing, L.L.C., TBG Cogen Partners, Westbrook Energy Center, LLC, Zion Energy LLC, North American Power Business, LLC.

Description: Updated Market Power Analysis for the Calpine Northeast MBR Sellers.

Filed Date: 6/30/17.

Accession Number: 20170630-5469.

Comments Due: 5 p.m. ET 8/29/17.

Docket Numbers: ER11-2154-007.

Applicants: Twin Eagle Resource Management, LLC.

Description: Triennial Market Power Update for the Northeast Region of Twin Eagle Resource Management, LLC.

Filed Date: 6/30/17.

Accession Number: 20170630-5471.

Comments Due: 5 p.m. ET 8/29/17.

Docket Numbers: ER13-618-012; ER12-2570-013.

Applicants: Panther Creek Power Operating, LLC, Westwood Generation LLC.

Description: Triennial Report for the Northeast Region of Westwood Generation LLC, et. al.

Filed Date: 6/30/17.

Accession Number: 20170630-5473.

Comments Due: 5 p.m. ET 8/29/17.

Docket Numbers: ER15-1029-003.

Applicants: Chubu TT Energy Management Inc.

Description: Triennial Market Power Update for the Northeast Region of Chubu TT Energy Management Inc.

Filed Date: 6/30/17.

Accession Number: 20170630-5470.

Comments Due: 5 p.m. ET 8/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 6, 2017.
Nathaniel J. Davis, Sr.,
Deputy Secretary.

[FR Doc. 2017-14653 Filed 7-12-17; 8:45 am]

BILLING CODE 6717-01-P